DEPARTMENT OF AGRICULTURE

Animal and Plant Health Inspection Service

9 CFR Parts 71, 82, and 94

[Docket No. 00-107-2]

RIN 0579-AB31

Salmonella Enteritidis Phage-Type 4; Remove Import Restrictions and Salmonella Enteritidis Serotype Enteritidis; Remove Regulations

AGENCY: Animal and Plant Health Inspection Service, USDA.

ACTION: Final rule.

SUMMARY: We are amending the regulations to remove import restrictions on eggs (other than hatching eggs) of poultry, game birds, and other birds from regions where Salmonella Enteritidis phage-type 4 exists. Previously, Salmonella Enteritidis phage-type 4 had not been isolated in the United States; therefore, those import restrictions were necessary to help prevent Salmonella Enteritidis phage-type 4 from being introduced into this country. However, Salmonella Enteritidis phage-type 4 is now known to be present in the United States. This action eliminates restrictions on the importation of eggs from regions where Salmonella Enteritidis phage-type 4 exists. We are also removing our regulations regarding poultry disease caused by Salmonella Enteritidis serotype enteritidis. These regulations are no longer enforced, and it is necessary to remove them to make our regulations consistent with our enforcement.

EFFECTIVE DATE: June 20, 2003.

FOR FURTHER INFORMATION CONTACT: Dr. Michael David, Director, Sanitary International Standards Team, National Center for Import and Export, VS, APHIS, 4700 River Road Unit 39, Riverdale, MD 20737-1231; (301) 734-3577.

SUPPLEMENTARY INFORMATION:

Background

The regulations in 9 CFR part 94 (referred to below as the regulations) govern the importation of specified animals and animal products into the United States in order to prevent the introduction of various animal diseases including Salmonella Enteritidis phage-type 4. S. enteritidis phage-type 4 is one of several kinds of Salmonella bacteria, and it has been isolated and identified as the cause of numerous outbreaks of salmonellosis in poultry in many parts of the world. Additionally, it has become one of the most prevalent serotypes causing salmonellosis in humans. The regulations in subpart C of 9 CFR part 82 contain, in part, restrictions on trade on the interstate movement of eggs from flocks affected with S. enteritidis serotype enteritidis. S. enteritidis phage-type 4 is one of several strains of S. enteritidis serotype enteritidis.

On December 16, 2002, we published in the Federal Register ( 67 FR 77004-77007, Docket No. 00-107-1) a proposal to amend the regulations to remove import restrictions on eggs (other than hatching eggs) of poultry, game birds, and other birds from regions where S. enteritidis phage-type 4 exists. We also proposed to remove our regulations regarding poultry disease caused by S. enteritidis serotype enteritidis.

We solicited comments concerning our proposal for 60 days ending February 14, 2003. We did not receive any comments. Therefore, for the reasons given in the proposed rule, we are adopting the proposed rule as a final rule without change.

Effective Date

This is a substantive rule that relieves restriction and, pursuant to the provisions of 5 U.S.C. 533, may be made effective less than 30 days after the publication in the Federal Register. This rule removes import restriction on eggs (other than hatching eggs) of poultry, game birds, and other birds from regions where S. enteritidis phage-type 4 exists. It also removes regulations regarding poultry diseases caused by S. enteritidis serotype enteritidis. Therefore, the Administrator of the Animal and Plant Health Inspection Service has determined that this rule should be effective upon publication in the Federal Register.

Executive Order 12866 and Regulatory Flexibility Act

This rule has been reviewed under Executive Order 12866. The rule has been determined to be not significant for the purposes of Executive Order 12866 and, therefore, has not been reviewed by the Office of Management and Budget.

We are amending the regulations to remove import restrictions on eggs (other than hatching eggs) of poultry, game birds, and other birds from regions where S. enteritidis phage-type 4 exists. Previously, S. enteritidis phage-type 4 had not been isolated in the United States; therefore, those import restrictions were necessary to help prevent S. enteritidis phage-type 4 from being introduced into this country. However, S. enteritidis phage-type 4 is now known to be present in the United States. This action will eliminate restrictions on the importation of eggs from regions where S. enteritidis phage-type 4 exists. We are also removing our regulations regarding poultry disease caused by S. enteritidis serotype enteritidis. These regulations are no longer enforced, and it is necessary to remove them to make our regulations consistent with our enforcement.

The following analysis, which also serves as our cost-benefit analysis, considers the potential economic effects of this rule on domestic egg producers.

S. enteritidis phage-type 4 is considered to exist in all parts of the world except Canada. Under the current regulations, the importation of eggs (other than hatching eggs) from or through regions affected with S. enteritidis phage-type 4 is restricted, but not prohibited. However, in 1999, the last year for which relevant census information is available, the United States imported only 5.8 million dozen eggs (other than hatching eggs), which is equivalent to less than 0.1 percent of U.S. production that year. Eighty percent of these shell egg imports were from China. Imported eggs from Canada, the only region not subject to import restrictions because of its freedom from S. enteritidis phage-type 4, accounted for less than 1 percent of all U.S. shell egg imports in 1999.

The United States does not export a significant amount of its egg supply. In 1999, the United States exported 117 million dozen eggs (other than hatching eggs), which is equivalent to only 2 percent of the U.S. nonhatching egg production for that year. As these figures indicate, virtually all eggs produced in the United States are consumed domestically.

After China, the United States is the world's second largest egg producer. In China and other top egg-producing countries, including Japan, India, Russia, Mexico, and France, virtually all eggs produced are consumed domestically. Combined, these 6 countries exported 122 million dozen eggs in 1999, less than 1 percent of their combined production that year. While the Netherlands exported the most eggs (226 million dozen), that region is not among the top 7 egg-producing nations. Mexico reported no egg exports between 1996 and 1999.

We expect that this rule will have little or no effect on U.S. producers, large or small, for the following reasons:

• Current restrictions on eggs (other than hatching eggs) from regions where Exotic Newcastle Disease (END) exists are quite similar to the restrictions regarding S. enteritidis phage-type 4 that we are removing.

• END is considered to exist in five of the top six foreign egg-producing regions. Therefore, with the exception of France, where END is not considered to exist, import restrictions on eggs will still be in place for the regions most likely to export eggs to the United States.

• Transporting eggs to the United States from foreign markets is expensive.

• Egg production in the United States is highly mechanized, which offsets potential cost advantages that foreign producers may have over U.S. producers with regard to labor wage rates.

Based on these considerations, we believe that the removal of the restrictions on the importation of eggs from regions where S. enteritidis phage-type 4 exists will not result in any appreciable increase in egg imports or otherwise affect domestic egg producers.

Additionally, we do not expect any impact on domestic egg producers or other poultry producers to result from our removal of the regulations regarding S. enteritidis serotype enteritidis in subpart C of part 82 and § 71.3, since these regulations are no longer enforced and have not been enforced since fiscal year 1995.

Under these circumstances, the Administrator of the Animal and Plant Health Inspection Service has determined that this action will not have a significant economic impact on a substantial number of small entities.

Executive Order 12988

This final rule has been reviewed under Executive Order 12988, Civil Justice Reform. This rule: (1) Preempts all State and local laws and regulations that are inconsistent with this rule; (2) has no retroactive effect; and (3) does not require administrative proceedings before parties may file suit in court challenging this rule.

Paperwork Reduction Act

This final rule contains no information collection or recordkeeping requirements under the Paperwork Reduction Act of 1995 (44 U.S.C. 3501 et seq.).

List of Subjects

9 CFR Part 71

Animal diseases, Livestock, Poultry and poultry products, Quarantine, Reporting and recordkeeping requirements, Transportation.

9 CFR Part 82

Animal diseases, Poultry and poultry products, Quarantine, Reporting and recordkeeping requirements, Transportation.

9 CFR Part 94

Animal diseases, Imports, Livestock, Meat and meat products, Milk, Poultry and poultry products, Reporting and recordkeeping requirements.

Accordingly, we are amending 9 CFR parts 71, 82, and 94 as follows:

PART 71—GENERAL PROVISIONS

1. The authority citation for part 71 continues to read as follows:

Authority: 7 U.S.C. 8301-8317; 7 CFR 2.22, 2.80, and 371.4.

§ 71.3 [Amended]

2. Section § 71.3 is amended as follows:

a. In paragraph (a), by removing the words “poultry disease caused by Salmonella enteritidis serotype enteritidis,”.

b. By removing paragraph (c)(4) and redesignating paragraph (c)(5) as paragraph (c)(4).

PART 82—EXOTIC NEWCASTLE DISEASE (END) AND CHLAMYDIOSIS

3. The authority citation for part 82 continues to read as follows:

Authority: 7 U.S.C. 8301-8317; 7 CFR 2.22, 2.80, and 371.4.

4. The heading for part 82 is revised to read as above.

Subpart C—[Removed]

5. In part 82, subpart C (§§ 82.30 through 82.38) is removed.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

6. The authority citation for part 94 continues to read as follows:

Authority: 7 U.S.C. 450, 7701-7772, and 8301-8317; 21 U.S.C. 136 and 136a; 31 U.S.C. 9701; 42 U.S.C. 4331 and 4332; 7 CFR 2.22, 2.80, and 371.4.

§ 94.0 [Amended]

7. Section 94.0 is amended by removing the definitions of Salmonella enteritidis, Salmonella enteritidis, phage-type 4, and Salmonellosis.

8. Section 94.6 is amended as follows:

a. By revising the section heading to read as set forth below.

b. By removing paragraph (b) and redesignating paragraphs (c), (d), and (e) as paragraphs (b), (c), and (d), respectively.

c. In newly redesignated paragraph (b)(2), by removing the comma after the word “Administrator” and, at the end of the paragraph, by removing the word “him” and adding the words “the Administrator” in its place.

d. In newly redesignated paragraph (b)(6), in the first sentence, by removing the words “paragraph (c)” and adding the words “paragraphs (b)(1) through (b)(5)” in their place and by removing the words “, Veterinary Services”, and, in the third sentence, by removing the words “paragraph (e)” and adding the words “paragraph (d)” in their place.

e. In newly redesignated paragraph (c), by revising the paragraph heading, the introductory text, and footnote 6 to read as set forth below.

f. In newly redesignated paragraph (c)(1)(ix)(C)(1), footnote 7, by removing the words “Operational Support,” and adding the words “National Animal Health Policy Programs,” in their place.

g. In newly redesignated paragraph (c)(1)(ix)(C)(2), in the last sentence, by removing the word “VVND” and adding the word “END” in its place.

h. By removing newly redesignated paragraph (c)(1)(x).

i. In newly redesignated paragraph (c)(2), in the last sentence, by removing the words “or S. enteritidis, phage-type 4,”.

j. In newly redesignated paragraph (c)(3), by removing the words “or S. enteritidis, phage-type 4,” both times they occur, and by removing the words “paragraph (e)” and adding the words “paragraph (d)” in their place.

k. In newly redesignated paragraph (c)(4), by removing the words “or S. enteritidis, phage-type 4,” both times they occur, and by removing the words “paragraph (e)” and adding the words “paragraph (d)” in their place.

§ 94.6 Carcasses, parts or products of carcasses, and eggs (other than hatching eggs) of poultry, game birds, or other birds; importations from regions where exotic Newcastle disease is considered to exist.

* * * * *

(c) Eggs (other than hatching eggs) from regions where END is considered to exist. Eggs (other than hatching eggs ⁶) from poultry, game birds, or other birds may be imported only in accordance with this section if they: Are laid by poultry, game birds, or other birds that are raised in any region where END is considered to exist (see paragraph (a) of this section); are imported from any region where END is considered to exist; or are moved into or through any region where END is considered to exist at any time before importation or during shipment to the United States.

⁶ The requirements for importing hatching eggs are contained in part 93 of this chapter.

* * * * *

Done in Washington, DC, this 16th day of June, 2003.
Bobby R. Acord,
Administrator, Animal and Plant Health Inspection Service.

[FR Doc. 03-15623 Filed 6-19-03; 8:45 am]

BILLING CODE 3410-34-P